DEPARTMENT OF VETERANS AFFAIRS

[OMB Control No. 2900-0661]

Agency Information Collection Activity Under OMB Review: Grants to States for Construction & Acquisition of State Home Facilities

AGENCY: Veterans Health Administration, Department of Veterans Affairs.

ACTION: Notice.

SUMMARY: In compliance with the Paperwork Reduction Act (PRA) of 1995, this notice announces that the Veterans Health Administration, Department of Veterans Affairs, will submit the collection of information abstracted below to the Office of Management and Budget (OMB) for review and comment. The PRA submission describes the nature of the information collection and its expected cost and burden and it includes the actual data collection instrument.

DATES: Comments must be submitted on or before August 22, 2018.

ADDRESSES: Submit written comments on the collection of information through www.Regulations.gov, or to Office of Information and Regulatory Affairs, Office of Management and Budget, Attn: VA Desk Officer; 725 17th St. NW, Washington, DC 20503 or sent through electronic mail to oira_submission@omb.eop.gov. Please refer to “OMB Control No. 2900-0661” in any correspondence.

FOR FURTHER INFORMATION CONTACT: Cynthia Harvey-Pryor, Office of Quality, Privacy and Risk (OQPR), Department of Veterans Affairs, 810 Vermont Avenue NW, Washington, DC 20420, (202) 461-5870 or email cynthia.harvey-pryor@va.gov Please refer to “OMB Control No. 2900-0661” in any correspondence.

SUPPLEMENTARY INFORMATION:

Authority: 38 U.S.C. 8133(a), 8135(a).

Title: Forms for Grants to States for Construction and Acquisition of State Home Facilities, VA Forms 10-0388-1, 10-0388-2, 10-0388-3, 10-0388-4, 10-0388-5, 10-0388-6, 10-0388-7, 10-0388-8, 10-0388-9, 10-0388-10, 10-0388-12, 10-0388-13.

OMB Control Number: 2900-0661.

Type of Review: Extension of a currently approved collection.

Abstract: State governments complete VA Forms 10-0388-1, 10-0388-2, 10-0388-3, 10-0388-4, 10-0388-5, 10-0388-6, 10-0388-7, 10-0388-8, 10-0388-9, 10-0388-10, 10-0388-12, and 10-0388-13, to apply for State Home Construction Grant Program and to certify compliance with VA requirements. VA uses this information, along with other documents submitted by States to determine the feasibility of the projects for VA participation, to determine eligibility for a grant award.

An agency may not conduct or sponsor, and a person is not required to respond to a collection of information unless it displays a currently valid OMB control number. The Federal Register Notice with a 60-day comment period soliciting comments on this collection of information was published at 83 FR 4560 on January 31, 2018, page 4560.

Affected Public: State, Local, or Tribal Governments.

Estimated Annual Burden: 1,200 hours.

Estimated Average Burden per Respondent: 24 hours.

Frequency of Response: On occasion.

Estimated Annual Responses: 50.

By direction of the Secretary.
Cynthia D. Harvey-Pryor,
Department Clearance Officer, Office of Quality, Privacy and Risk, Department of Veterans Affairs.

[FR Doc. 2018-15636 Filed 7-20-18; 8:45 am]

BILLING CODE 8320-01-P